DEPARTMENT OF AGRICULTURE

Forest Service

49 Degrees North Mountain Resort Revised Master Plan, Colville National Forest, Stevens County, Washington

AGENCY: Forest Service, USDA.

ACTION: Notice of intent to prepare an environmental impact statement.

SUMMARY: The Forest Service, USDA, will prepare an environmental impact statement (EIS) to analyze and disclose the environmental impacts of a site-specific proposal to revise the master plan and the present special use permit of the Chewelah Basin Ski Corporation, current operator of the 49 Degrees North Mountain Resort. The proposed master plan would replace the existing 1977 master plan. This master plan would expand the ski area from it's current size of about 900 acres to 2,100 acres, utilizing the entire area the 1988 Colville National Forest Land and Resources Management Plan designated for downhill skiing (Management Area 3C). Chewelah Basin Ski Corporation owns about 320 acres adjacent to the current permit area. All or portions of the proposed activities would occur on this private land. The proposal revises the master plan and includes projects that expand downhill skiing capacity and improve the downhill skiing experience, expands the Nordic skiing capacity, develops the associated infrastructure, and includes summer use of the permit area. The proposal may require a minor Forest Plan amendment because the Forest Plan Management Area 3C boundaries do not precisely coincide with the ridge tops. Connected action on adjacent private land, which will be evaluated as part of this proposal, include: (1) Constructing a mid-way lodge; (2) plating and preparing for the development of 120 residential housing units clustered on 32 acres; and (3) transferring one mile of Forest Road 4300473 to Stevens County. Portions of the proposal ski trails, water pipeline, electrical cable would be located on private land. 49 Degrees North Mountain Resort is located approximately 10 miles east of the city of Chewelah, Washington and approximately 50 miles north of the city of Spokane, Washington. The purpose of the EIS will be to develop and evaluate a range of alternatives, including a No Action alternative and possible additional alternatives, to respond to issues identified during the scoping process. Except as described above, the proposed action is in compliance with the direction in the Colville National Forest Land and Resources Management Plan, which provides the overall guidance for the management area. The Agency invites written comments on the scope of this project. In addition, the agency gives notice of this analysis so that interested and affected people are aware of how they may participate and contribute to the final decision.

ADDRESSES: Submit written comments and suggestions to Nora B. Rasure, Forest Supervisor, Colville National Forest, 765 South Main, Colville, Washington 99114. Attn: 49 Degrees North Revised Master Plan.

FOR FURTHER INFORMATION CONTACT: Questions and comments about this EIS should be directed to Dan Dallas, District Ranger, Newport Ranger District, 315 North Warren, Newport, Washington 99156; phone 509-447-3129.

SUPPLEMENTARY INFORMATION: Chewelah Basin Ski Corporation, owner of 49 Degrees North Mountain Resort, has been working to revise their master plan since they purchased the ski area in 1996. The Colville National Forest is initiating this action in response to a proposed revision of the master plan submitted by the corporation.

The proposal would expand downhill skiing capacity and improve the downhill skiing experience by—(1) expanding ski runs from about 540 to 860 acres, (2) expanding tree skiing from about 200 acres to 470 acres, (3) constructing one chair lift, and (4) installing three culverts and extending two culverts on existing ski runs. Develop new Nordic skiing facilities by—(1) developing about 12 miles of cross-country ski trails, and (2) constructing a Nordic ski center with an ice rink. Develop the necessary infrastructure by—(1) expanding the current lodge, (2) expanding the wastewater treatment facility, (3) installing additional water supply pipeline, (4) installing a larger water storage tank, (5) installing more underground electrical cable, (6) expanding the parking and including a small RV park, (7) constructing about 0.75 miles of new primitive road to access work areas, (8) constructing a new maintenance shop, and (9) re-aligning the entrance road. The proposal further includes summer use of the area by—(1) allowing biking and hiking on the Nordic ski trails, and (2) developing a small tent camping area near the Nordic center.

A range of alternatives will be considered, including a No Action alternative. Other alternatives will be developed in response to issues received during scoping. Preliminary issues that have been identified include the potential effects of structures and developments on—streams and riparian areas, wildlife habitats., and heritage resources.

Comments received in response to this notice, including names and addresses of those who comment, will be considered part of the public record on this proposed revised master plan will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is expected to be filed with the Environmental Protection Agency (EPA) and to be available for review in July 2002. The EPA will publish a notice of availability of the draft EIS in the Federal Register. The comment period of the draft EIS will be 45 days from the date the EPA notice appears in the Federal Register. At that time, copies of the draft EIS will be distributed to interested and affected agencies, organizations, Tribes, and members of the public for their review and comment. It is very important that those interested in the management of the Colville National Forest participate at that time.

The Forest Service believes it is important, at this early stage, to give reviewers notice of several court rulings related to public participation in the environmental review process. First, reviewers of a draft EIS must structure their participation in the environmental review of the proposal so that it is meaningful and alerts an agency to the reviewer's position and connections. Vermont Yankee Nuclear Power Corp. v. NRDC, 435 U.S. 519,553 (1978). Also, environmental objections that could be raised at the draft EIS stage, but that are not raised until after completion of the final EIS may be waived or dismissed by the courts. City of Angoon v. Hodel, 803 F. 2d 1016, 1022 (9th Cir. 1986) and Wisconsin Heritages, Inc. v. Harris, 490 F Supp. 1334, 1338 (E.D. Wis. 1980). Because of these court rulings, it is very important that those interested in this proposed action participate by the close of the comment period so that substantive comments and objections are made available to the Forest Service at a time when it can meaningfully consider them and respond to them in the final EIS.

The final EIS is scheduled to be completed October 2002. In the final EIS, the Forest Service is required to respond to comments and responses received during the comment period that pertain to the environmental consequences discussed in the draft EIS and applicable laws, regulations and policies considered in making the decision regarding this proposal.

Nora B. Rasure, Forest Supervisor, Colville National Forest is the responsible official. As the responsible official, she will document the decision and reasons for the decision in the record of decision. That decision will be subject to Forest Service Appeal Regulation (36 CFR Part 215).

Dated: March 25, 2002.
Nora B. Rasure,
Forest Supervisor.

[FR Doc. 02-8771 Filed 4-10-02; 8:45 am]

BILLING CODE 3410-11-M